DEPARTMENT OF ENERGY

Federal Energy Regulatory Commission

[Docket No. CP06-89-002]

Northern Natural Gas Company; Notice of Compliance Filing

June 18, 2007.

Take notice that on June 1, 2007, Northern Natural Gas Company (Northern), tendered for filing in its FERC Gas Tariff, Fifth Revised Volume No. 1, the following tariff sheets, to be effective August 1, 2007:

Tenth Revised Sheet No. 1

13 Revised Sheet No. 275

Revised Sheet No. 53

Original Sheet No. 165

Original Sheet No. 166

Original Sheet No. 167

Sheet No. 168

First Revised Fifth Revised Sheet No. 403

First Revised Fifth Revised Sheet No. 403A

Second Revised Sheet No. 461

First Revised Sheet No. 462

Northern states that the above sheets are being filed to comply with Commission requirements issued in its April 10, 2007 order in Docket Nos. CP06-89 et al. related to the abandonment by sale of the West Hugoton facilities.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 25, 2007.

Kimberly D. Bose,
Secretary.

[FR Doc. E7-12181 Filed 6-22-07; 8:45 am]

BILLING CODE 6717-01-P